DEPARTMENT OF TRANSPORTATION

Federal Aviation Administration

User Input to the Aviation Weather Technology Transfer (AWTT) Board

AGENCY: Federal Aviation Administration (FAA), Department of Transportation (DOT).

ACTION: Notice of public meeting.

SUMMARY: The FAA will hold an informal public meeting to seek aviation weather user input on convective weather products. Details: October 17, 2006; Orlando Orange County Convention Center, 9800 International Drive, Room N210A, Orlando, Florida 32819, 2 p.m. to 4 p.m. The objective of this meeting is to provide an opportunity for interested Government and commercial sector representatives who use Government-provided aviation weather information in operational decision-making to provide input on FAA's plans for implementing new weather products.

DATES: The meeting will be held at the Orlando Orange Country Convention Center, 9800 International Drive, Room N210A, Orlando, Florida 32819; Times: 2 p.m. to 4 p.m. on October 17, 2006.

FOR FURTHER INFORMATION CONTACT: Debi Bacon, Air Traffic Organization, Operations Planning, NAS Weather Policy and Requirements, Federal Aviation Administration, 800 Independence Ave., SW., Washington, DC 20591; telephone number (202) 385-7705; Fax: (202) 385-7701; E-mail: debi.bacon@faa.gov.

SUPPLEMENTARY INFORMATION:

History

In 1999, the FAA established an Aviation Weather Technology Transfer (AWTT) Board to manage the orderly transfer of weather capabilities and products from research and development (R&D) into operations. The Director, Systems Engineering, Operations Planning, Air Traffic Organization chairs the AWTT Board. The board is composed of stakeholders in the Air Traffic and Aviation Safety organizations in the Federal Aviation Administration and the Office of Climate, Water and Weather Services, the Office of Science and Technology, and the National Center for Environmental Predictions (NCEP) in the National Weather Service.

The AWTT Board meets semi-annually or as needed, to determine the readiness of weather R&D products for experimental use or full operational use for meteorologists or for end users. The board makes the determination based on technical and operational readiness, cost and benefits, user needs and budget considerations.

FAA has the sole responsibility and authority to make decisions intended to provide a safe, secure, and efficient U.S. national airspace system. However, it behooves FAA to not make decisions in a vacuum. Rather, FAA is seeking inputs from the user community before decisions are finalized.

Industry users are invited to participate in one-day meetings two or three times per year to give specific feedback to the Government. Meetings are often focused on a specific domain (e.g. terminal, enroute) or specific weather phenomena (e.g. turbulence, convection) but may also focus on specific weather products ready for operational decisions. Meetings will include a time for users to provide input on specific weather products and to surface issues on concerns with those products. The industry review sessions will be announced in the Federal Register and open to all interested parties.

This meeting is the industry session focused on convective weather products, roadmaps and research activities.

Meeting Procedures

(a) The meeting will be informal in nature and will be conducted by representatives of the FAA Headquarters.

(b) The meeting will be open to all persons on a space-available basis. Every effort was made to provide a meeting site with sufficient seating capacity for the expected participation. There will be neither admission fee nor other charge to attend and participate. This meeting is being held in conjunction with the NBAA Convention 2006. There is a charge to attend the NBAA convention; however, any person desiring to attend this informal meeting will be admitted to NBAA convention officials to this meeting only, at no charge.

(c) FAA personnel will conduct overview briefings on aviation weather products, the status of on-going research, the implementation of the Graphical Turbulence Guidance (GTG) product and the newly developed safety risk assessment process. Questions may be asked during the presentation and FAA personnel will clarify any part of the process that is not clear.

(d) Any person present may offer comment or feedback in the session. Comments and feedback will be captured through discussion between FAA personnel and those persons attending the meeting.

(e) FAA will not take any action items from this meeting nor make any commitments to accept specific user suggestions. An official verbatim transcript of the meeting will not be made. However, a list of the attendees and a digest of discussions during the meeting will be produced and posted on a Web site. Instructions to access the Web site will be provided to all persons attending the meeting and provided to any who desire it.

(f) Every reasonable effort will be made to hear each person's feedback consistent with a reasonable closing time for the meeting. Written feedback is also solicited and may be submitted to FAA personnel for the period October 18-November 17, 2006.

Agenda

(a) Opening Remarks.

(b) Review of AWTT weather products and research efforts.

(c) Overview of the Safety Risk Assessment process.

(d) Review of implementation of the Graphical Turbulence Guidance (GTG) product and solicitation of user feedback.

(e) Closing Comments.

* * * * *

Issued in Washington, DC on October 4, 2006.
Richard J. Heuwinkel,
Manager, NAS Weather Policy and Requirements.

[FR Doc. 06-8614 Filed 10-11-06; 8:45 am]

BILLING CODE 4910-13-M